SECURITIES AND EXCHANGE COMMISSION

Sunshine Act Meetings

FEDERAL CITATION OF PREVIOUS ANNOUNCEMENT: Publishing in the FR of 1/22/24.

PREVIOUSLY ANNOUNCED TIME AND DATE OF THE MEETING: Wednesday, January 24, 2024, at 10:00 a.m.

CHANGES IN THE MEETING: The Open Meeting scheduled for Wednesday, January 24, 2024, at 10:00 a.m. has been changed to Wednesday, January 24, 2024 at 9:15 a.m.

CONTACT PERSON FOR MORE INFORMATION: For further information; please contact Vanessa A. Countryman from the Office of the Secretary at (202) 551-5400.

Authority: 5 U.S.C. 552b.

Dated: January 19, 2024.
Vanessa A. Countryman,
Secretary.

[FR Doc. 2024-01346 Filed 1-19-24; 4:15 pm]

BILLING CODE 8011-01-P